DEPARTMENT OF COMMERCE

International Trade Administration

Notice of Scope Rulings

AGENCY: Import Administration, International Trade Administration, Department of Commerce.

DATES: Effective Date: November 29, 2011.

SUMMARY: The Department of Commerce (“Department”) hereby publishes a list of scope rulings completed between January 1, 2011, and March 31, 2011. In conjunction with this list, the Department is also publishing a list of requests for scope rulings and anticircumvention determinations pending as of March 31, 2011. We intend to publish future lists after the close of the next calendar quarter.

FOR FURTHER INFORMATION CONTACT: Julia Hancock, AD/CVD Operations, China/NME Group, Import Administration, International Trade Administration, U.S. Department of Commerce, 14th Street and Constitution Avenue, NW., Washington, DC 20230; telephone: (202) 482-1394.

SUPPLEMENTARY INFORMATION:

Background

The Department's regulations provide that the Secretary will publish in the Federal Register a list of scope rulings on a quarterly basis. See 19 C.F.R. 351.225(o). Our most recent notification of scope rulings was published on May 31, 2011. See Notice of Scope Rulings, 76 FR 31301 (May 31, 2011). This current notice covers all scope rulings and anticircumvention determinations completed by Import Administration between January 1, 2011, and March 31, 2011, inclusive, and it also lists any scope or anticircumvention inquiries pending as of March 31, 2011. As described below, subsequent lists will follow after the close of each calendar quarter.

Scope Rulings Completed Between January 1, 2011, and March 31, 2011

People's Republic of China

A-570-601: Tapered Roller Bearings from the People's Republic of China

Requestor: Blackstone OTR LLC and OTR Wheel Engineering, Inc.; its wheel hub units/assemblies with tapered roller bearings are within the scope of the antidumping duty order; February 7, 2011.

A-570-868: Folding Metal Tables and Chairs from the People's Republic of China

Requestor: Lifetime Products, Inc.; its four-foot folding tables are not within the scope of the antidumping duty order; February 17, 2011.

A-570-868: Folding Metal Tables and Chairs from the People's Republic of China

Requestor: Lifetime Products, Inc.; its six-foot and eight-foot fold-in-half tables are not within the scope of the antidumping duty order; February 17, 2011.

A-570-890: Wooden Bedroom Furniture from the People's Republic of China

Requestor: Shermag Inc.; its two crib and changing table combinations are not within the scope of the antidumping duty order; February 8, 2011.

A-570-890: Wooden Bedroom Furniture from the People's Republic of China

Requestor: Poundex Associates Corp.; a bi-cast leather sleigh bed and a bi-cast leather platform bed are within the scope of the antidumping duty order; March 31, 2011.

A-570-890: Wooden Bedroom Furniture from the People's Republic of China

Requestor: Stork Craft Manufacturing; its two infant (baby) changing tables are within the scope of the antidumping duty order; February 24, 2011.

A-570-901: Lined Paper Products from the People's Republic of China

Requestor: C2F, Inc.; its PRO-0203-01 black journal and PTL-018121 black bound-stitched journal are not within the scope of the antidumping duty order; January 13, 2011.

A-570-901: Lined Paper Products from the People's Republic of China

Requestor: C2F, Inc.; its five bound-stitched journals (PTL-013142-2RB; PTL-016152-3SB; PTL-016143-2RD; PTL-016153-2RB; and PTL-019011) are not within the scope of the antidumping duty order; January 13, 2011.

A-570-922/C-570-923: Raw Flexible Magnets from the People's Republic of China

Requestor: Medical Action Industries Inc.; Magnet with a Mark and Magnet Strip with a Groove are within the scope of the antidumping duty and countervailing duty orders and the Surgical Instrument Drape is not within the scope of the antidumping duty and countervailing duty orders; January 11, 2011.

Multiple Countries

A-570-922/C-570-923/A-583-842: Raw Flexible Magnets from the People's Republic of China and Taiwan

Requestor: InterDesign; its sixty raw flexible magnets are not within the scope of the antidumping duty and countervailing duty orders; January 11, 2011.

A-570-937/C-570-938/A-122-853: Citric Acid and Certain Citrate Salts from the People's Republic of China and Canada

Requestor: Aceto Corporation; its calcium citrate USP is within the scope of the antidumping duty and countervailing duty orders; February 14, 2011.

Anticircumvention Determinations Completed Between January 1, 2011, and March 31, 2011

None.

Scope Inquiries Terminated Between January 1, 2011, and March 31, 2011

A-570-943/C-570-944: Oil Country Tubular Goods from the People's Republic of China

Requestor: TMK IPSCO; whether all green tubes are within the scope of the antidumping duty and countervailing duty orders; requested September 30, 2010; request withdrawn January 11, 2011.

Anticircumvention Inquiries Terminated Between January 1, 2011, and March 31, 2011

None.

Scope Inquiries Pending as of March 31, 2011

People's Republic of China

A-570-504: Petroleum Wax Candles from the People's Republic of China

Requestor: Trade Associates Group, Ltd.; whether its candles (multiple designs) are within the scope of the antidumping duty order; requested June 11, 2009.

A-570-504: Petroleum Wax Candles from the People's Republic of China

Requestor: Sourcing International, LLC; whether its flower candles are within the scope of the antidumping duty order; requested June 24, 2009.

A-570-504: Petroleum Wax Candles from the People's Republic of China

Requestor: Sourcing International; whether its candles (multiple designs) are within the scope of the antidumping duty order; requested July 28, 2009.

A-570-504: Petroleum Wax Candles from the People's Republic of China

Requestor: Sourcing International; whether its floral bouquet candles are within the scope of the antidumping duty order; requested August 25, 2009.

A-570-504: Petroleum Wax Candles from the People's Republic of China

Requestor: Candym Enterprises Ltd.; whether its vegetable candles are within the scope of the antidumping duty order; requested November 9, 2009.

A-570-504: Petroleum Wax Candles from the People's Republic of China

Requestor: R&D Chemicals, Inc.; whether its four Bite-Lite candles are within the scope of the antidumping duty order; requested March 4, 2011.

A-570-601: Tapered Roller Bearings from the People's Republic of China

Requestor: New Trend Engineering Limited; whether certain wheel hub units are within the scope of the antidumping duty order; requested March 5, 2010; initiated June 15, 2010; preliminary ruling December 13, 2010.

A-570-601: Tapered Roller Bearings from the People's Republic of China

Requestor: Bosda International (USA) LLC and Kingdom Auto Parts Ltd.; whether certain wheel hub units are within the scope of the antidumping duty order; requested October 28, 2010.

A-570-864: Pure Magnesium in Granular Form from the People's Republic of China

Requestor: ESM Group Inc.; whether U.S.-origin pure magnesium exported to the People's Republic of China (“PRC”) for atomization and re-exported to the United States is subject to the antidumping duty order; requested February 11, 2011.

A-570-868: Folding Metal Tables and Chairs from the People's Republic of China

Requestor: Lifetime Products, Inc.; whether its 33-inch round tables are within the scope of the antidumping duty order; requested February 4, 2011.

A-570-868: Folding Metal Tables and Chairs from the People's Republic of China

Requestor: Meco Corporation; whether its pedestal tables are within the scope of the antidumping duty order; requested February 28, 2011.

A-570-890: Wooden Bedroom Furniture from the People's Republic of China

Requestor: Acme Furniture Industry Inc.; whether its partially upholstered daybed with trundle unit and fully upholstered daybed without trundle unit are within the scope of the antidumping duty order; requested March 4, 2011.

A-570-891: Hand Trucks from the People's Republic of China

Requestor: WelCom Products; whether its MC2 Magna Cart, MCI Magna Cart and MCK Magna Cart are within the scope of the antidumping duty order; requested October 12, 2010.

A-570-900: Diamond Sawblades and Parts Thereof from the People's Republic of China

Requestor: Gang Yan Diamond Products, Inc.; whether its rescue/demolition sawblades are within the scope of the antidumping duty order; requested March 28, 2011.

A-570-912/C-570-913: Certain Pneumatic Off-the-Road Tires from the People's Republic of China

Requestor: Wide Open Cycles Inc.; whether custom-built, size 14.9-24, pneumatic off-the-road mud racing tires built exclusively for all terrain vehicles are within the scope of the antidumping duty order; requested December 9, 2010.

A-570-912/C-570-913: Certain New Pneumatic Off-The-Road Tires from the People's Republic of China

Requestor: OTR Wheel Engineering, Inc. (“OTR Wheel”); whether OTR Wheel's “Trac Master” and “Traction Master” tires are within the scope of the antidumping duty and countervailing duty orders; requested February 11, 2011.

A-570-916/C-570-917: Laminated Woven Sacks from the People's Republic of China

Requestor: The Super Poly Partnership; whether its laminated woven sacks are within the scope of the antidumping duty and countervailing duty orders; requested February 14, 2011.

A-570-920/C-570-921: Lightweight Thermal Paper from the People's Republic of China

Requestor: Paper Resources, LLC.; whether certain lightweight thermal paper (“LWTP”) converted into smaller LWTP rolls in the PRC, from jumbo LWTP rolls produced in certain third countries, is within the scope of the antidumping duty and countervailing duty orders; requested February 24, 2011.

A-570-922/C-570-923: Raw Flexible Magnets from the People's Republic of China

Requestor: Smith-Western Company; whether flexible magnets affixed to hard, inflexible plastic material are within the scope of the antidumping duty and countervailing duty orders; requested March 1, 2011.

A-570-928: Uncovered Innerspring Units from the People's Republic of China

Requestor: Wickline Bedding Enterprises; whether its unfinished mattress kits are within the scope of the antidumping duty order; requested March 8, 2011.

A-570-932: Steel Threaded Rod from the People's Republic of China

Requestor: Powerline Hardware, LLC; whether its spool bolts and shank pins are within the scope of the antidumping duty order; requested February 24, 2011.

A-570-932: Certain Steel Threaded Rod from the People's Republic of China

Requestor: A.L. Patterson; whether its engineered steel coil rod is within the scope of the antidumping duty order; requested March 4, 2011.

A-570-937/C-570-938: Citric Acid and Certain Citrate Salts from the People's Republic of China

Requestor: Global Commodity Group LLC; whether its blends of citric acid and blends of citrate salts are within the scope of the antidumping duty and countervailing duty orders; requested August 9, 2010; preliminary ruling March 7, 2011.

A-570-951: Certain Woven Electric Blankets from the People's Republic of China

Requestor: Eurow & O'Reilly Corporation; whether its automotive fleece electric blanket is within the scope of the antidumping duty order; requested March 11, 2011.

Japan

A-588-804: Ball Bearings and Parts Thereof from Japan

Requestor: American NTN Bearing Manufacturing Corporation; whether its magnetic encoders used in antilock braking systems in automobiles are within the scope of the antidumping duty order; requested March 3, 2011.

A-588-804: Ball Bearings and Parts Thereof from Japan

Requestor: Aisin Holdings of America; whether a worm assembly and a seat track roller are within the scope of the antidumping duty order; requested March 28, 2011.

Mexico

A-201-830: Carbon and Certain Alloy Steel Wire Rod from Mexico

Requestor: Nucor Corporation and Cascade Steel Rolling Mills, Inc.; whether wire rod with a diameter of less than 5.00 mm is within the scope of the antidumping duty order; requested February 14, 2011.

Multiple Countries

A-533-838/C-533-839/A-570-892: Carbazole Violet Pigment 23 from India and the People's Republic of China

Requestor: Nation Ford Chemical Co., and Sun Chemical Corp.; whether finished carbazole violet pigment exported from Japan is within the scope of the antidumping duty and countervailing duty orders; requested February 23, 2010.

A-570-922/C-570-923/A-583-842: Raw Flexible Magnets from the People's Republic of China and Taiwan

Requestor: Jingzhou Meihou Flexible Magnet Co. Ltd.; whether its three types of magnets (i.e., rolls of meter-wide magnet sheeting; craft magnets and door gasket extrusions) are within the scope of the antidumping duty and countervailing duty orders; requested March 30, 2011.

A-570-954/C-570-955/A-201-837: Certain Magnesia Carbon Bricks from Mexico and the People's Republic of China

Requestor: Vesuvius USA Corporation; whether tap hole sleeve systems, assembled or disassembled, sold and entered as a complete set, are covered by the antidumping duty and countervailing duty orders; requested November 1, 2010.

Anticircumvention Rulings Pending as of March 31, 2011

A-570-836: Glycine from the People's Republic of China

Requestor: Geo Specialty Chemicals, Inc. and Chattem Chemicals, Inc.; whether glycine from the PRC, when processed and re-packaged in India and exported as Indian-origin glycine, is circumventing the antidumping duty order; requested December 18, 2009; initiated October 22, 2010.

A-570-849: Certain Cut-to-Length Carbon Steel from the People's Republic of China

Requestor: ArcelorMittal USA, Inc.; Nucor Corporation; SSAB N.A.D., Evraz Claymont Steel and Evraz Oregon Steel Mills; whether certain cut-to-length carbon steel plate from the PRC that contains a small level of boron, involves such a minor alteration to the merchandise that is so insignificant that the plate is circumventing the antidumping duty order; requested February 17, 2010; initiated April 16, 2010.

A-570-894: Certain Tissue Paper Products from the People's Republic of China

Requestor: Seaman Paper Company of Massachusetts, Inc.; whether certain imports of tissue paper from the Socialist Republic of Vietnam are circumventing the antidumping duty order through means of third country assembly or completion; requested February 18, 2010; initiated April 5, 2010; preliminary ruling March 31, 2011.

A-570-918: Steel Wire Garment Hangers from the People's Republic of China

Requestor: M&B Metal Products Inc.; whether certain imports of steel wire garment hangers from the Socialist Republic of Vietnam are circumventing the antidumping duty order through means of third country assembly or completion of merchandise imported from the PRC; requested May 5, 2010; initiated July 22, 2010.

A-570-929: Small Diameter Graphite Electrodes from the People's Republic of China

Requestor: SGL Carbon LLC and Superior Graphite Co.; whether unfinished small diameter graphite electrodes produced in the PRC and completed and assembled in the United Kingdom are circumventing the antidumping duty order; initiated February 17, 2011.

A-821-807: Ferrovanadium and Nitrided Vanadium from Russia

Requester: AMG Vanadium, Inc.; whether vanadium pentoxide imports from Russia that are converted into ferrovanadium in the United States are circumventing the antidumping duty order; requested February 25, 2011.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: July 22, 2011.
Christian Marsh,
Deputy Assistant Secretary for Antidumping and Countervailing Duty Operations.

[FR Doc. 2011-30774 Filed 11-28-11; 8:45 a.m.]

BILLING CODE 3510-DS-P